DEPARTMENT OF THE INTERIOR

Bureau of Land Management

[LLCON02000.L16100000.DR0000]

Notice of Availability of the Kremmling Field Office Record of Decision and Approved Resource Management Plan, Colorado

AGENCY: Bureau of Land Management, Interior.

ACTION: Notice.

SUMMARY: The Bureau of Land Management (BLM) announces the availability of the Record of Decision (ROD) and approved Resource Management Plan (RMP) for the Kremmling Field Office located in Grand, Eagle, Summit, Jackson, Larimer, and Routt counties in northwest Colorado. The Colorado State Director signed the ROD on June 19, 2015, which constitutes the BLM's final decision and makes the approved RMP effective immediately.

ADDRESSES: Copies of the ROD/approved RMP are available upon request from the Field Manager, BLM Kremmling Field Office, 2103 E. Park Ave, Kremmling CO 80459 or via the Internet at http://www.blm.gov/co/st/en/fo/kfo.html. Copies of the ROD/approved RMP are available for public inspection at the Kremmling Field Office.

FOR FURTHER INFORMATION CONTACT: Stephanie Odell, Field Manager; telephone 970-724-3001; address 2103 E. Park Ave, Kremmling CO 80459; email sodell@blm.gov. Persons who use a telecommunications device for the deaf (TDD) may call the Federal Information Relay Service (FIRS) at 1-800-877-8339 to contact Ms. Odell during normal business hours. The FIRS is available 24 hours a day, seven days a week, to leave a message or question for Ms. Odell. You will receive a reply during normal business hours.

SUPPLEMENTARY INFORMATION: The approved RMP provides management for approximately 377,900 BLM-administered surface acres and 653,500 acres of mineral estate in northwest Colorado. It describes the actions needed to meet the desired resource conditions for upland and riparian vegetation, fish and wildlife habitats, water resources, air quality, cultural, paleontological and visual resources as well as livestock grazing, minerals, energy development, and recreation. While the approved RMP also proposes some conservation management for Greater Sage-Grouse habitat, the Northwest Colorado BLM Greater Sage-Grouse Plan Amendment and Environmental Impact Statement (EIS) will fully analyze applicable Greater Sage-Grouse conservation measures. The BLM expects to make a comprehensive set of decisions for managing Greater Sage-Grouse on land administered by the Kremmling Field Office in the Record of Decision for the Northwest Colorado BLM Greater Sage-Grouse Plan Amendment and EIS, which when final will amend this RMP.

The BLM initiated scoping for the RMP in 2007, and collected information and public input via public meetings and interviews in order to develop the draft RMP/EIS in September 2011. Based on public comments, the BLM made edits and carried forward the preferred alternative into the proposed RMP/final EIS with some modifications. The Environmental Protection Agency and the BLM published their respective Notices of Availability of the proposed RMP/final EIS in the Federal Register on March 21, 2014 (79 FR 15741 and 15772), initiating the protest period. During the protest period for the proposed RMP, the BLM received five valid protest submissions. All protests were dismissed; however, the BLM made minor editorial modifications to the approved RMP to provide further clarification of some of the decisions. There was also a 60-day Governor's consistency review period for the proposed RMP; no inconsistencies were identified during the review.

The decisions designating routes of travel for motorized vehicles are implementation decisions and are appealable under 43 CFR part 4. These decisions are contained in Appendix A of the approved RMP. These route designations will be evaluated for consistency with the Northwest Colorado BLM Greater Sage-Grouse Plan Amendment and EIS, when final; and if needed, additional NEPA will occur, with public involvement, to address any inconsistencies. Any party adversely affected by the proposed route designations may appeal within 30 days of publication of this Notice of Availability pursuant to 43 CFR part 4, subpart E. The appeal should state the specific route(s), as identified in Appendix A of the approved RMP, on which the decision is being appealed. The appeal must be filed with the Kremmling Field Manager at the above listed address. Please consult the appropriate regulations (43 CFR part 4, subpart E) for further appeal requirements.

Authority: 40 CFR 1506.6.

Ruth Welch,
BLM Colorado State Director.

[FR Doc. 2015-16432 Filed 7-7-15; 8:45 am]

BILLING CODE 4310-JB-P